DEPARTMENT OF TRANSPORTATION

Federal Aviation Administration

14 CFR Part 39

[Docket No. FAA-2007-28258; Directorate Identifier 2006-NM-251-AD]

RIN 2120-AA64

Airworthiness Directives; Airbus Model A330 and A340 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

During a BCM (back-up control module) retrofit campaign, one resistor manufactured by SRT (Siegert) was found with an abnormal resistance drift. * * *

* * * * *

When the aircraft is in control back up configuration (considered to be an extremely remote case), an incorrect value on these resistors may cause degradation of the BCM piloting laws, potentially leading to erratic motion of the rudder and to possible impact on the Dutch Roll [uncommanded coupling of airplane roll and yaw motions].

* * * * *

The unsafe condition is erratic motion of the rudder could result in reduced controllability of the airplane due to dutch roll characteristics. The proposed AD would require actions that are intended to address the unsafe condition described in the MCAI.

DATES: We must receive comments on this proposed AD by June 25, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5227) is in the ADDRESSES section. Comments will be available in the AD docket shortly after receipt.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-28258; Directorate Identifier 2006-NM-251-AD” at the beginning of your comments. We specifically invite comments on the overall regulatory, economic, environmental, and energy aspects of this proposed AD. We will consider all comments received by the closing date and may amend this proposed AD based on those comments.

We will post all comments we receive, without change, to http://dms.dot.gov, including any personal information you provide. We will also post a report summarizing each substantive verbal contact we receive about this proposed AD.

Discussion

The European Aviation Safety Agency (EASA), which is the Technical Agent for the Member States of the European Community, has issued Airworthiness Directive 2006-0313, dated October 13, 2006 (referred to after this as “the MCAI”), to correct an unsafe condition for the specified products. The MCAI states:

During a BCM (back-up control module) retrofit campaign, one resistor manufactured by SRT (Siegert) was found with an abnormal resistance drift. This resistor was subject to humidity absorption and then to oxidation, which leads to increase the resistor value.

This oxidation has been determined coming from a production quality issue.

When the aircraft is in control back up configuration (considered to be an extremely remote case), an incorrect value on these resistors may cause degradation of the BCM piloting laws, potentially leading to erratic motion of the rudder and to possible impact on the Dutch Roll [uncommanded coupling of airplane roll and yaw motions].

In order to detect a degradation of the BCM piloting laws due to resistor oxidation, this Airworthiness Directive (AD) mandates a repetitive ground operational test of the BCM fitted with resistor manufactured by SRT until accomplishment of terminating action (installation of BCM fitted with resistors manufactured by VISHAY).

You may obtain further information by examining the MCAI in the AD docket.

Relevant Service Information

Airbus has issued the service bulletins listed below. The actions described in the service information are intended to correct the unsafe condition identified in the MCAI.

• Airbus Service Bulletin A330-27-3142, dated August 17, 2006.

• Airbus Service Bulletin A330-27-3147, including Appendix 01, dated August 4, 2006.

• Airbus Service Bulletin A340-27-4142, dated August 17, 2006.

• Airbus Service Bulletin A340-27-4147, including Appendix 01, dated August 4, 2006.

• Airbus Service Bulletin A340-27-5036, dated August 17, 2006.

• Airbus Service Bulletin A340-27-5038, including Appendix 01, dated August 4, 2006.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 20 products of U.S. registry. We also estimate that it would take about 15 work-hours per product to comply with this proposed AD. The average labor rate is $80 per work-hour. Required parts would cost about $0 per product. Where the service information lists required parts costs that are covered under warranty, we have assumed that there will be no charge for these costs. As we do not control warranty coverage for affected parties, some parties may incur costs higher than estimated here. Based on these figures, we estimate the cost of the proposed AD on U.S. operators to be $24,000, or $1,200 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2007-28258; Directorate Identifier 2006-NM-251-AD.

Comments Due Date

(a) We must receive comments by June 25, 2007.

Affected ADs

(b) None.

Applicability

(c) This AD applies to airplanes specified in paragraphs (c)(1), (c)(2), and (c)(3) of this AD:

(1) Model A330 airplanes, certificated in any category, with Modification 49144 installed in production, but without Production Modification 55185 or Airbus Service Bulletin A330-27-3142 installed in-service.

(2) Model A340-200 and -300 series airplanes, certificated in any category, with Modification 49144 installed in production, but without Production Modification 55185 or Airbus Service Bulletin A340-27-4142 installed in-service.

(3) Model A340-500 and -600 series airplanes, certificated in any category, without Production Modification 55186 or Airbus Service Bulletin A340-27-5036 installed in-service.

Subject

(d) Flight Controls.

Reason

(e) The mandatory continuing airworthiness information (MCAI) states:

During a BCM (back-up control module) retrofit campaign, one resistor manufactured by SRT (Siegert) was found with an abnormal resistance drift. This resistor was subject to humidity absorption and then to oxidation, which leads to increase the resistor value.

This oxidation has been determined coming from a production quality issue.

When the aircraft is in control back up configuration (considered to be an extremely remote case), an incorrect value on these resistors may cause degradation of the BCM piloting laws, potentially leading to erratic motion of the rudder and to possible impact on the Dutch Roll [uncommanded coupling of airplane roll and yaw motions].

In order to detect a degradation of the BCM piloting laws due to resistor oxidation, this Airworthiness Directive (AD) mandates a repetitive ground operational test of the BCM fitted with resistor manufactured by SRT until accomplishment of terminating action (installation of BCM fitted with resistors manufactured by VISHAY).

The unsafe condition is erratic motion of the rudder and could result in reduced controllability of the airplane due to dutch roll characteristics.

Actions and Compliance

(f) Unless already done, do the following actions.

(1) Within 900 flight hours after the effective date of this AD, and thereafter at intervals not to exceed 900 flight hours, perform an operational test of the BCM and back-up power supply (BPS) by BITE (built in test equipment), and as applicable, apply the corrective actions, in accordance with instructions defined in Airbus Service Bulletin A330-27-3147, dated August 4, 2006; Airbus Service Bulletin A340-27-4147, dated August 4, 2006; or Airbus Service Bulletin A340-27-5038, dated August 4, 2006; as applicable. Replacement of affected BCM in accordance with Airbus Service Bulletin A330-27-3142, dated August 17, 2006; A340-27-4142, dated August 17, 2006; or A340-27-5036, dated August 17, 2006; cancels the mandatory repetitive operational test.

(2) Within 26 months after the effective date of this AD, install modified BCM in accordance with instructions given in Airbus Service Bulletin A330-27-3142, dated August 17, 2006; Airbus Service Bulletin A340-27-4142, dated August 17, 2006; or Airbus Service Bulletin A340-27-5036, dated August 17, 2006; as applicable.

FAA AD Differences

Note: This AD differs from the MCAI and/ or service information as follows: No Differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tim Backman, Aerospace Engineer; 1601 Lind Avenue, SW., Renton, Washington 98057-3356; telephone (425) 227-2797; fax (425) 227-1149. Before using any AMOC approved in accordance with § 39.19 on any airplane to which the AMOC applies, notify the appropriate principal inspector in the FAA Flight Standards Certificate Holding District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2006-0313, dated October 13, 2006; and the service bulletins listed in Table 1 for related information.

Table 1.—Airbus Service Bulletins
Airbus Service Bulletin— | Dated—
A330-27-3123 | December 13, 2004.
A330-27-3142 | August 17, 2006.
A330-27-3147, including Appendix 01 | August 4, 2006.
A340-27-4124 | December 13, 2004.
A340-27-4142 | August 17, 2006.
A340-27-4147, including Appendix 01 | August 4, 2006.
A340-27-5036 | August 17, 2006.
A340-27-5038, including Appendix 01 | August 4, 2006.

Issued in Renton, Washington, on May 15, 2007.
Ali Bahrami,
Manager, Transport Airplane Directorate, Aircraft Certification Service.

[FR Doc. E7-10043 Filed 5-23-07; 8:45 am]

BILLING CODE 4910-13-P